DEPARTMENT OF THE INTERIOR

Bureau of Indian Affairs

[DR.5A211.IA000413]

Contract Support Costs

AGENCY: Bureau of Indian Affairs, Interior.

ACTION: Notice of tribal consultation; extension of comment deadline.

SUMMARY: The Assistant Secretary—Indian Affairs, in conjunction with the Acting Director, Indian Health Service (IHS), will conduct a consultation session with Indian tribes to work together to identify long-term solutions concerning contract support costs (CSC) as it relates to the Fiscal Year (FY) 2014 Consolidated Appropriations Act.

DATES: The consultation session will be held on Tuesday, May 6, 2014, from 3:30 p.m. to 5:00 p.m. Written comments must be received July 31, 2014.

ADDRESSES: See the SUPPLEMENTARY INFORMATION section of this notice for the location of the tribal consultation session. Submit comments by email to: consultation@bia.gov or by U.S. mail to: Office of the Assistant Secretary—Indian Affairs, U.S. Department of the Interior, attn: Sequoyah Simermeyer, Mail Stop 3071 MIB, 1849 C Street NW., Washington DC, 20240.

FOR FURTHER INFORMATION CONTACT: Sequoyah Simermeyer, Deputy Chief of Staff, Office of the Assistant Secretary—Indian Affairs, (202) 208-7163.

SUPPLEMENTARY INFORMATION: The Assistant Secretary—Indian Affairs, in conjunction with the Acting Director, IHS, will conduct a consultation session on CSC at the Crystal Gateway Marriott Hotel, 1700 Jefferson Davis Highway, Arlington, VA 22201, from 3:30 p.m. to 5:00 p.m. on Tuesday, May 6, 2014, during the 2014 Tribal Self Governance Annual Consultation Conference. This notice is being published as soon as was practicable to ensure that we take this opportunity to meet with tribal representatives while they are in Arlington for the conference. This consultation session follows the consultation session held on the same topic at the National Congress of American Indians (NCAI) Executive Winter Session in March 2014. This notice also extends the deadline for submission of written comments to July 31, 2014.

The FY 2014 Consolidated Appropriations Act includes funding to implement the Indian Self-Determination and Education Assistance Act of 1975 and authorizes discretionary appropriations for CSC for both the Bureau of Indian Affairs (BIA) and IHS. The Act did not limit the amount available in the FY, as in prior years, for the payment of CSC, nor did it include the proposal put forth in the Administration's FY 2014 budget request that would place a cap on the CSC amounts available for each tribal contract or compact. Instead, as set forth in the Joint Explanatory Statement accompanying the Act, Congress “remanded back to the agencies to resolve” the determination of CSC amounts to be paid from within the FY 2014 appropriation.

Congress further directed BIA and IHS to consult with the tribes and work with the House and Senate committees of jurisdiction, the Office of Management and Budget, and the Committees on Appropriations to formulate long-term accounting, budget, and legislative strategies to work on solutions going forward. Congress indicated that the solution should consider a standardized approach that streamlines the contract negotiation process, provides consistent and clear cost categories, and ensures efficient and timely cost documentation for the agencies and the tribes. This session will allow for broad input regarding these activities.

The BIA and IHS plan to continue consultation throughout the following months as each agency addresses implementation of its work plan, required to be submitted to Congress by May 17, 2014. The work plans will detail the schedule of future consultation sessions and they will be made available as soon as possible.

Dated: April 2, 2014.
Kevin K. Washburn,
Assistant Secretary—Indian Affairs.

[FR Doc. 2014-07735 Filed 4-7-14; 8:45 am]

BILLING CODE 4310-02-P